DEPARTMENT OF THE INTERIOR

Bureau of Land Management

[MT-020-05-1310-DO-CBMP]

Notice of Intent To Prepare a Supplement to the Statewide Oil and Gas Final Environmental Impact Statement and Amendment of the Powder River and Billings Resource Management Plans; MT

AGENCY: Bureau of Land Management, Interior.

ACTION: Notice of intent to prepare a Supplement to the Montana Statewide Oil and Gas Final Environmental Impact Statement (EIS) and Amendment of the Powder River and Billings Resource Management Plans (Statewide Document) and to initiate public scoping.

SUMMARY: By Order of the U.S. District Court for the District of Montana, pursuant to the Federal Land Policy and Management Act of 1976 and 43 CFR 1610.2(c) for amending resource management plans (RMPs), and in accordance with the National Environmental Policy Act of 1969 (42 U.S.C. 4321), as amended, and the Council on Environmental Quality regulations at 40 CFR parts 1500-1508, the Bureau of Land Management (BLM) is preparing a Supplement to the Statewide Document (SEIS/Amendment) and will amend the Powder River and Billings RMPs. The SEIS/Amendment will evaluate the effects of phased coal bed natural gas (CBNG) development and production in the Billings and Powder River RMP areas. The tentative completion date of the Record of Decision for the SEIS/Amendment is December 2006.

DATES: Written comments on the scope of the SEIS/Amendment and the proposed planning criteria may be submitted for 30 days from the date of this notice. Public scoping meetings will be held in Miles City, Broadus, Lame Deer and Billings, Montana. Meeting locations and dates for each town will be announced through the local news media.

ADDRESSES: You may submit comments by any of the following methods. Written comments must be signed.

Mail: BLM, Attn: Mary Bloom, SEIS/Amendment Comments, 111 Garryowen Road, Miles City, MT 59301.

E-mail: mtseis@blm.gov.

Fax: (406) 233-2921.

Hand-Deliver: Miles City Field Office, 111 Garryowen Road, Miles City, Montana.

Comments may also be submitted to the BLM at the public scoping meetings. Documents pertinent to the SEIS/Amendment may be examined at the Miles City Field Office, 111 Garryowen Road, Miles City, MT. Proposed planning criteria may be obtained by contacting the BLM at the above address.

FOR FURTHER INFORMATION: Contact Mary Bloom, Project Manager, BLM, Miles City Field Office, 111 Garryowen Road, Miles City, MT 59301, telephone (406) 233-2852.

SUPPLEMENTARY INFORMATION: The Powder River and Billings RMP areas comprise approximately 1,506,011 acres of BLM managed surface and 5,009,784 acres of BLM managed mineral estate. There are approximately 3,185,016 acres of BLM managed oil and gas.

The Powder River RMP area includes Powder River, Carter, and Treasure counties; and portions of Big Horn, Custer, and Rosebud counties. The Billings RMP area includes Carbon, Golden Valley, Musselshell, Stillwater, Sweet Grass, Wheatland, and Yellowstone counties; and the remaining portion of Big Horn County.

BLM published the original Notice of Intent for the Montana Statewide Oil and Gas Final EIS and Amendment of the Powder River and Billings RMPs in the Federal Register on December 19, 2000. The Statewide Document Notice of Availability was published in the Federal Register on January 17, 2003, and the Record of Decision approved on April 30, 2003. The State of Montana and BLM were co-leads for the Statewide Document. Several lawsuits were filed immediately against the BLM decision. Two of the lawsuits resulted in an April 5, 2005 ruling by the U.S. District Court ordering BLM to prepare a Supplemental EIS to consider a phased development alternative for CBNG production in the Billings and Powder River RMP Areas of Montana.

Topics to be addressed in the SEIS/Amendment are those provided by the U.S. District Court: Phased CBNG development, the inclusion of the proposed Tongue River Railroad in the cumulative impact analysis, and a discussion on how private water well mitigation agreements will help alleviate the impacts of methane migration and groundwater drawdown. The purpose of the public scoping period is to help BLM define “phased development” and to identify relevant issues that should be considered and analyzed in the SEIS/Amendment, in addition to those mentioned above.

The SEIS/Amendment will be prepared by an interdisciplinary team of specialists for recreation, fisheries, economics, sociology, archeology, air quality, wildlife, realty, minerals and range management.

Please note that comments and information submitted regarding this SEIS/Amendment, including names, e-mail addresses and street addresses of respondents, will be available for public review and disclosure at the above address. BLM will not accept anonymous comments. Individual respondents may request confidentiality. Individuals who wish to withhold their name or street address from public review or from disclosure under the Freedom of Information Act must state this prominently at the beginning of their written comments. Such requests will be honored to the extent allowed by law. All submissions from organizations and businesses, and from individuals identifying themselves as representatives or officials of organizations or businesses, will be available for public inspection in their entirety.

Dated: July 27, 2005.
David McIlnay,
Field Manager, BLM Miles City, Montana Field Office.

[FR Doc. 05-15189 Filed 8-4-05; 8:45 am]

BILLING CODE 4310-$$-P